DEPARTMENT OF TRANSPORTATION

Federal Aviation Administration

Twelfth Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the twelfth meeting of the RTCA Special Committee 227, Standards of Navigation Performance.

DATES: The meeting will be held November 17-21 from 9:00 a.m.-4:30 p.m.

ADDRESSES: RTCA Headquarters, 1150 18th Street NW., Suite 910, Washington, DC, 20036.

FOR FURTHER INFORMATION CONTACT: The RTCA Secretariat, 1150 18th Street NW., Suite 910, Washington, DC 20036, or by telephone at (202) 330-0662 or (202) 833-9339, fax at (202) 833-9434, or Web site at http://www.rtca.org. In addition, Sophie Bousquet may be contacted directly at email: sbousquet@rtca.org.

SUPPLEMENTARY INFORMATION: Pursuant to section 10(a)(2) of the Federal Advisory Committee Act (Pub. L. 92-463, 5 U.S.C., App.), notice is hereby given for a meeting of Special Committee 227. The agenda will include the following:

November 17-21, 2014

• Welcome/Introductions/Administrative Remarks

• Agenda Overview

• Overview of Planned Work Program for the Week

○ Working Group 2 MOPS Change Proposals

○ SC-186 and potential MASPS Requirement Changes

○ MOPS Draft Review

• Plenary Review/Discussion

○ Status of TORs and MASPS Change 1

○ Status of SC-214/SC-227 Tiger Team

○ Status of SC-186/SC-227 Coordination, and SC-227 Schedule

○ Planned Work Schedule (Note, Schedule Subject to Change)

○ MOPS Change Proposal Review

○ MOPS Human Factors Guidance/Requirements

• Technical Requirements Breakout Sessions (as Needed)

• Other Business

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 29, 2014.
Mohannad Dawoud,
Management Analyst, NextGen, Program Oversight and Administration, Federal Aviation Administration.

[FR Doc. 2014-26269 Filed 11-3-14; 8:45 am]

BILLING CODE 4910-13-P